DEPARTMENT OF THE INTERIOR

Bureau of Land Management

43 CFR Part 1600

[WO-350-2520-24 1B]

RIN 1004-AD57

Land Use Planning; Correction

AGENCY: Bureau of Land Management (BLM), Interior.

ACTION: Final rule; correcting amendments.

SUMMARY: This document contains corrections to the final regulations that were published in the Federal Register on Wednesday, March 23, 2005, (70 FR 14561). The regulations related to cooperating agencies and cooperating agency status.

DATES: Effective on April 22, 2005.

FOR FURTHER INFORMATION CONTACT: Robert Winthrop at (202) 452-6597 or Mark Lambert at (202) 452-7763.

SUPPLEMENTARY INFORMATION:

Background

Need for Correction

As published, the final regulations contain errors which may prove to be misleading and need to be clarified. The final regulations stated the corrections in singular form when some of the actual regulation text was in plural form. We need to make these corrections so that all of the necessary changes appear in the Code of Federal Regulations.

List of Subjects in 43 CFR Part 1600

Administrative practice and procedures, Environmental Impact Statements, Indians, Intergovernmental relations, Public lands.

Accordingly, 43 CFR part 1600 is corrected by making the following correcting amendments:

PART 1600—PLANNING, PROGRAMMING, BUDGETING

1. The authority citation for part 1600 continues to read as follows:

Authority: 43 U.S.C. 1711-1712.

§ 1610.1 [Corrected]

2. Section 1610.1(a)(1) is amended by removing the misspelled word “suct” and add in its place the word “such.”

§ 1610.1 Resource management planning guidance [Amended]

3. Amend § 1610.1(a)(1) and (b) by revising the phrases “resource area” and “resource areas” to read “resource or field office area” and “resource or field office areas”, respectively.

§ 1610.2 [Amended]

4. Amend § 1610.2(j) by removing the phrase “District or Area Manager” and adding the phrase “Field Manager” and removing the phrase “Area or Field Manager” and adding the phrase “Field Manager.”

§ 1610.3-1 [Amended]

5. Amend § 1610.3-1 by removing the phrase “District Managers” from paragraph (d) introductory text and adding in its place the phrase “Field Manager.”

Dated: May 11, 2005.
Ian Senio,
Acting Group Manager, Regulatory Affairs.

[FR Doc. 05-10015 Filed 5-19-05; 8:45 am]

BILLING CODE 4310-84-P